DEPARTMENT OF TRANSPORTATION

Surface Transportation Board

[STB Ex Parte No. 638]

Procedures To Expedite Resolution of Rail Rate Challenges To Be Considered Under the Stand-Alone Cost Methodology

AGENCY: Surface Transportation Board, DOT.

ACTION: Notice of public hearing.

SUMMARY: The Surface Transportation Board (Board) will hold a public hearing on Thursday, February 27, 2003, at its offices in Washington, DC, to provide interested persons an opportunity to express their views on the subject of expediting resolution of rail rate challenges to be considered under the Board's Stand-Alone Cost (SAC) methodology. Persons wishing to speak at the hearing should notify the Board in writing.

DATES: The public hearing will take place on Thursday, February 27, 2003. Any person wishing to speak at the hearing should file with the Board a written notice of intent to participate, and should indicate a requested time allotment, as soon as possible but no later than February 19, 2003. Each speaker should also file with the Board his/her written testimony by February 21, 2003.

ADDRESSES: An original and 10 copies of all notices of intent to participate and testimony should refer to STB Ex Parte No. 638, and should be sent to: Surface Transportation Board, Attn: STB Ex Parte No. 638, 1925 K Street, NW., Washington, DC 20423-0001.

FOR FURTHER INFORMATION, CONTACT: Jamie P. Rennert, (202) 565-1566. [Federal Information Relay Service (FIRS) (Hearing Impaired): (800) 877-8339.]

SUPPLEMENTARY INFORMATION: The Board will hold a public hearing to provide a forum for the expression of views by rail shippers, railroads, and other interested persons, on expediting resolution of rail rate challenges to be considered under the SAC methodology.

Issues. This public hearing follows the Board's review of comments filed in response to the notice of proposed rulemaking (NPRM) served in this docket on September 4, 2002. In the NPRM, the Board asked for suggestions on ways to streamline resolution of SAC cases, and the Board itself identified several possible measures. These measures included a mandatory pre-filing, non-binding mediation process; discovery standards tailored to the Board's experience in SAC cases; and establishment of an informal expedited process, using Board staff, for resolving discovery disputes. The Board received comments from various parties in response to the NPRM. This hearing will provide a forum for the oral discussion of these and any other proposals that interested persons might wish to offer to expedite the resolution of SAC cases.

Date of Hearing. The hearing will begin at 10 a.m. on Thursday, February 27, 2003, in the 7th floor hearing room at the Board's headquarters in Washington, DC, and will continue, with short breaks if necessary, until every person scheduled to speak has been heard.

Notice of Intent To Participate. Any person wishing to speak at the hearing should file with the Board a written notice of intent to participate, and should indicate a requested time allotment, as soon as possible but no later than February 19, 2003.

Testimony. Each speaker should file with the Board his/her written testimony by February 21, 2003.

Paper Copies. Each person intending to speak at the hearing should submit an original and 10 paper copies of his/her notice of intent to participate (as soon as possible but no later than February 19, 2003) and testimony (by February 21, 2003).

Board Releases Available Via The Internet. Decisions and notices of the Board, including this notice, are available on the Board's Web site at http://www.stb.dot.gov.

This action will not significantly affect either the quality of the human environment or the conservation of energy resources.

Dated: February 5, 2003.
Vernon A. Williams,
Secretary.

[FR Doc. 03-3370 Filed 2-7-03; 8:45 am]

BILLING CODE 4915-00-P